DEPARTMENT OF THE INTERIOR

Fish and Wildlife Service

Multistate Conservation Grant Program; Priority List for Conservation Projects

AGENCY: Fish and Wildlife Service, Department of the Interior.

ACTION: Notice of receipt of priority list.

SUMMARY: The U.S. Fish and Wildlife Service is publishing in the Federal Register the priority list of wildlife and sport fish conservation projects submitted by the International Association of Fish and Wildlife Agencies for funding under the Multistate Conservation Grant Program. This notice is required by the Wildlife and Sport Fish Restoration Programs Improvement Act of 2000 (Public Law 106-408). FY 2005 grants may be made from this priority list.

FOR FURTHER INFORMATION CONTACT: Pam Matthes, Multistate Conservation Grants Program Coordinator, Division of Federal Assistance, U.S. Fish and Wildlife Service, 4401 North Fairfax Drive, Mail Stop FA-4020, Arlington, Virginia 22203; phone (703) 358-2066; or e-mail Pam_Matthes@fws.gov.

SUPPLEMENTARY INFORMATION: The Wildlife and Sport Fish Restoration Programs Improvement Act of 2000 (Improvement Act) amended the Pittman-Robertson Wildlife Restoration Act (16 U.S.C. 669 et seq.) and the Dingell-Johnson Sport Fish Restoration Act (16 U.S.C. 777 et seq.) and established the Multistate Conservation Grant Program. The Improvement Act authorizes grants of up to $3 million annually from funds available under each of the Restoration Acts, for a total of up to $6 million annually. Grants may be made from a priority list of projects submitted by the International Association of Fish and Wildlife Agencies (IAFWA), which represent the State fish and wildlife agencies. The Director of the U.S. Fish and Wildlife Service, exercising the authority of the Secretary of the Interior, need not fund all recommended projects, but must not fund projects that are not recommended.

To be eligible for consideration by the IAFWA, a project must benefit fish and/or wildlife conservation in at least 26 States, a majority of the States in a region of the U.S. Fish and Wildlife Service, or a regional association of State fish and wildlife agencies. Grants may be made to a State or group of States, to nongovernmental organizations, and to the U.S. Fish and Wildlife Service or a State or group of States for the purpose of carrying out the National Survey of Fishing, Hunting and Wildlife-Associated Recreation. IAFWA requires proposals to address its National Conservation Needs, which are announced annually at the same time as the request for proposals.

The IAFWA prepares the priority list through a committee comprised of the heads of State fish and game departments (or their designees) in consultation with non-governmental organizations that represent conservation organizations, sportsmen organizations and industries that support or promote hunting, trapping, recreational shooting, bow hunting, or archery. The priority list must be approved by majority vote of the heads of State fish and game departments (or their designees).

The priority list of projects submitted by the IAFWA follows:

Attachments

Dated: December 6, 2004.
Matt Hogan,
Deputy Director.

BILLING CODE 4310-55-P

[FR Doc. 05-2928 Filed 2-15-05; 8:45 am]

BILLING CODE 4310-55-C